RAILROAD RETIREMENT BOARD

Proposed Collection; Comment Request

Summary: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Certification Regarding Rights to Unemployment Benefits; OMB 3220-0079.

Under Section 4 of the Railroad Unemployment Insurance Act (RUIA), an employee who leaves work voluntarily is disqualified for unemployment benefits unless the employee left work for good cause and is not qualified for unemployment benefits under any other law. RRB Form UI-45, Claimant's Statement—Voluntary Leaving of Work, is used by the RRB to obtain the claimant's statement when the claimant, the claimant's employer, or another source indicates that the claimant has voluntarily left work.

Completion of Form UI-45 is required to obtain or retain benefits. One response is received from each respondent. The RRB proposes no changes to Form UI-45.

Estimate of Annual Respondent Burden
[The estimated annual respondent burden is as follows]
Form No. | Annual responses | Time (minutes) | Burden (hours)
UI-45 | 200 | 15 | 50
Total | 200 |  | 50

2. Title and purpose of information collection: Railroad Separation Allowance or Severance Pay Report; OMB 3220-0173.

Section 6 of the Railroad Retirement Act provides for a lump-sum payment to an employee or the employee's survivors equal to the Tier II taxes paid by the employee on a separation allowance or severance payment for which the employee did not receive credits toward retirement. The lump-sum is not payable until retirement benefits begin to accrue or the employee dies. Also, Section 4(a-1)(iii) of the Railroad Unemployment Insurance Act provides that a railroad employee who is paid a separation allowance is disqualified for unemployment and sickness benefits for the period of time the employee would have to work to earn the amount of the allowance. The reporting requirements are specified in 20 CFR 209.14.

In order to calculate and provide payments, the Railroad Retirement Board (RRB) must collect and maintain records of separation allowances and severance payments which were subject to Tier II taxation from railroad employers. The RRB uses Form BA-9, Report of Separation Allowance or Severance Pay, to obtain information from railroad employers concerning the separation allowances and severance payments made to railroad employees and/or the survivors of railroad employees. Employers currently have the option of submitting their reports on paper Form BA-9, (or in like format) on a CD-ROM disk, or by File Transfer Protocol (FTP), or secure Email.

Completion is mandatory. One response is requested of each respondent. The RRB proposes no changes to Form BA-9.

Estimate of Annual Respondent Burden
[The estimated annual respondent burden is as follows]
Form No. | Annual responses | Time (minutes) | Burden (hours)
BA-9 (paper) | 265 | 76 | 336
BA-9 (CD-ROM) | 60 | 76 | 76
BA-9 (secure Email) | 25 | 76 | 32
BA-9 (FTP) | 10 | 76 | 13
Total | 360 |  | 457

3. Title and purpose of information collection: OMB 3220-0184; RRB Form G-19-F.

Under Section 2 of the Railroad Retirement Act, an annuity is not payable, or is reduced for any month(s) in which the beneficiary works for a railroad or earns more than prescribed amounts. The provisions relating to the reduction or non-payment of annuities by reason of work are prescribed in 20 CFR 230.

The RRB utilizes Form G-19-F, Earnings Information Request, to obtain earnings information that either had not been previously reported or erroneously reported by a beneficiary. Currently the claimant is asked to enter the date they stopped working, if applicable. The RRB proposes to revise the G-19-F to allow the claimant who has not stopped working to indicate if they will stop working within 90 days.

If a respondent fails to complete the form, the RRB may be unable to pay them benefits. One response is requested of each respondent.

Estimate of Annual Respondent Burden
[The estimated annual respondent burden is as follows]
Form No. | Annual responses | Time (minutes) | Burden (hours)
G-19-F | 900 | 8 | 120
Total | 900 |  | 120

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2013-28197 Filed 11-22-13; 8:45 am]

BILLING CODE 7905-01-P